DEPARTMENT OF COMMERCE

International Trade Administration

The University of Michigan; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 03-024R. Applicant: The University of Michigan, Ann Arbor, MI 48109-2136. Instrument: Materials Preparation and Crystal Growth System, Model MCGS5. Manufacturer: Crystalox Limited, United Kingdom. Intended Use: See notice at 68 FR 36769, June 19, 2003.

Comments: None received. Decision: Approved. No instrument of equivalent scientific value to the foreign instrument, for such purposes as it is intended to be used, is being manufactured in the United States. Reasons: The foreign instrument provides: (1) Induction cold crucible melting capable of complete levitation of the charge (for purity), (2) Czochralski growth for production of single crystals and (3) small crucible volume (21 ccm²) allowing research-scale experiments with precious metals (e.g., platinum). The National Institute of Standards and Technology advises in its memorandum of October 22, 2003 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 03-27694 Filed 11-3-03; 8:45 am]

BILLING CODE 3510-DS-P